DEPARTMENT OF TRANSPORTATION

National Highway Traffic Safety Administration

[Docket Number NHTSA-2015-0049]

Reports, Forms, and Record Keeping Requirements

AGENCY: National Highway Traffic Safety Administration (NHTSA), Department of Transportation.

ACTION: Notice and request for comments.

SUMMARY: In compliance with the Paperwork Reduction Act of 1995 (44 U.S.C. 3501 et seq.), this notice announces that the Information Collection Request (ICR) abstracted below will be forwarded to the Office of Management and Budget (OMB) for review and comment. The ICR describes the nature of the information collections and their expected burden.

DATES: Comments must be received on or before June 26, 2015.

ADDRESSES: Send comments within 30 days to the Office of Information and Regulatory Affairs, Office of Management and Budget, 725 17th Street NW., Washington, DC 20503, Attention NHTSA Desk Officer.

FOR FURTHER INFORMATION CONTACT: For additional information or access to background documents, contact Gary R. Toth, Office of Data Acquisition (NVS-410), Room W53-505, 1200 New Jersey Avenue SE., Washington, DC 20590. Mr. Toth's telephone number is (202) 366-5378 and his email address is gary.toth@dot.gov.

SUPPLEMENTARY INFORMATION: Before a Federal agency can collect certain information from the public, it must receive approval from the Office of Management and Budget (OMB). In compliance with these requirements, this notice announces that the following information collection request has been forwarded to OMB. A Federal Register Notice with a 60-day comment period was published on Monday, September 29, 2014 (Volume 79, Number 188, pages 58402 and 58403). NHTSA did not receive any comments.

Title: Crash Report Sampling System (CRSS).

Type of Request: New information collection.

OMB Control Number: None.

Abstract: Under both the Highway Safety Act of 1966 and the National Traffic and Motor Vehicle Safety Act of 1966, the National Highway Traffic Safety Administration (NHTSA) has the responsibility to collect crash data that support the establishment and enforcement of motor vehicle regulations and highway safety programs. These regulations and programs are developed to reduce the severity of injury and the property damage associated with motor vehicle crashes. In the late 1970s, NHTSA's National Center for Statistics and Analysis (NCSA) devised a multidisciplinary approach to meet the data needs of our end users that utilizes an efficient combination of census, sample-based, and existing State files to provide nationally representative traffic crash data on a timely basis. NCSA operates data programs consisting of records-based systems that include the Fatality Analysis Reporting System (FARS) and the National Automotive Sampling System General Estimates System (NASS-GES); and detailed crash investigation-based systems which include the National Automotive Sampling System Crashworthiness Data System (NASS-CDS) and the Special Crash Investigations (SCI) program. NASS-CDS focused on the crashworthiness of passenger cars, light trucks, and vans involved in crashes and damaged enough to be towed. NASS-GES, on the other hand, collected limited data on other highway crashes in order to produce general estimates.

Recognizing the importance as well as the limitations of the current National Automotive Sampling Systems, NHTSA is undertaking a modernization effort to upgrade our data systems by improving the information technology infrastructure, updating the data we collect and reexamining the sample sites. The goal of this overall modernization effort is to develop new crash data systems that meet current and future data needs. The new systems will be designed to collect record-based information and investigation-based information. The redesigned records-based acquisition process will identify highway safety problem areas and provide general data trends and will be referred to as the Crash Report Sampling System (CRSS).

CRSS will obtain data from a nationally representative probability sample selected from police-reported motor vehicle traffic crashes. Specifically, crashes involving at least one motor vehicle in transport on a trafficway that result in property damage, injury or a fatality will be included in the CRSS sample. The crash reports sampled will be chosen from selected areas that reflect the geography, population, miles driven, and the number of crashes in the United States. No additional data beyond the selected crash reports will be collected. Once the crash reports are received they will be coded and the data will be entered into the CRSS database.

CRSS will acquire national information on fatalities, injuries and property damage only directly from existing State police crash reports. CRSS data quality reviews will be conducted to determine whether the data acquired are responsive to the total user population needs. The user population includes Federal and State agencies, automobile manufacturers, insurance companies, and the private sector. Annual changes in the sample parameters are minor in terms of operation and method of data collection, and do not affect the reporting burden of the respondent (CRSS data coders will utilize existing State crash files).

Affected Public: Federal and State agencies and the private sector.

Estimated Annual Burden: 7,280 hours.

Requested Expiration Date of Approval: Three (3) years from the approval date. Please note that this period was incorrectly stated as five (5) years in the 60 day notice.

Estimated Number of Responses: 840.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Authority: The Paperwork Reduction Act of 1995, 44 U.S.C. chap. 35; 49 U.S.C. 30181-83.

Under authority delegated in 49 CFR 1.95.
Terry T. Shelton,
Associate Administrator, National Center for Statistics and Analysis.

[FR Doc. 2015-12679 Filed 5-26-15; 8:45 am]

BILLING CODE 4910-59-P